NUCLEAR REGULATORY COMMISSION

[NRC-2011-0166]

Exelon Generation Co., LLC; Notice of Receipt and Availability of Application for Renewal of Limerick Generating Station, Units 1 and 2 Facility Operating License Nos. NPF-39 and NPF-85 for an Additional 20-Year Period

The U.S. Nuclear Regulatory Commission (NRC or Commission) has received an application, dated June 22, 2011, from Exelon Generation Co., LLC, filed pursuant to Section 103 of the Atomic Energy Act of 1954, as amended, and Title 10 of the Code of Federal Regulations part 54 (10 CFR part 54), to renew the operating licenses for the Limerick Generating Station (LGS), Units 1 and 2. Renewal of the licenses would authorize the applicant to operate each facility for an additional 20-year period beyond the period specified in the respective current operating licenses. The current operating license for LGS, Unit 1 (NPF-39), expires on October 26, 2024. The current operating license for LGS, Unit 2 (NPF-85), expires on June 22, 2029. Both units are boiling-water reactors designed by General Electric, and are located 4 miles from Limerick, PA. The acceptability of the tendered application for docketing and other matters, including an opportunity to request a hearing, will be the subject of subsequent Federal Register notices.

Copies of the application are available to the public at the Commission's public document room (PDR), located at One White Flint North, 11555 Rockville Pike, Rockville, Maryland 20852 or through the internet from the NRC's Agencywide Documents Access and Management System (ADAMS) public electronic reading room under Accession Number ML111790800. The ADAMS public electronic reading room is available online in the NRC Library at http://www.nrc.gov/reading-rm/adams.html. In addition, the application is available at http://www.nrc.gov/reactors/operating/licensing/renewal/applications.html. Persons who do not have access to the internet or who encounter problems in accessing the documents located in ADAMS should contact the NRC's PDR reference staff at 1-800-397-4209, extension 4737, or by e-mail to pdr.resource@nrc.gov.

A copy of the license renewal application for the LGS, Units 1 and 2, is also available to local residents near the site at the Pottstown Regional Public Library, 500 East High Street, Pottstown, PA 19464-5656.

Dated at Rockville, Maryland, this 13th day of July 2011.
For the Nuclear Regulatory Commission.
Brian E. Holian,
Director, Division of License Renewal, Office of Nuclear Reactor Regulation.

[FR Doc. 2011-18394 Filed 7-25-11; 8:45 am]

BILLING CODE 7590-01-P